DEPARTMENT OF HOMELAND SECURITY

Federal Emergency Management Agency

[Docket ID FEMA-2014-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of December 16, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: October 9, 2014.
Roy E. Wright,
Deputy Associate Administrator for Mitigation, Department of Homeland Security, Federal Emergency Management Agency.

Community | Community map repository address
Newton County, Indiana, and Incorporated Areas
Docket No.: FEMA-B-1283
Town of Brook | Town Hall, 112 West Main Street, Brook, IN 47922.
Town of Kentland | Town Hall, 300 North Third Street, Kentland, IN 47951.
Unincorporated Areas of Newton County | Newton County Government Center, Building Department, 4117 South 240 West, Suite 700, Morocco, IN 47963.
Delaware County, Iowa, and Incorporated Areas
Docket No.: FEMA-B-1343
City of Manchester | City Hall, 208 East Main Street, Manchester, IA 52057.
Unincorporated Areas of Delaware County | Delaware County Engineering Office, 2139 Highway 38, Manchester, IA 52057.
Florence County, South Carolina, and Incorporated Areas
Docket No.: FEMA-B-1266
City of Florence | City Center, 324 West Evans Street, Florence, SC 29501.
City of Johnsonville | City Hall, 111 West Broadway Street, Johnsonville, SC 29555.
City of Lake City | City Hall, 202 Kelley Street, Lake City, SC 29560.
Town of Coward | Town Office, 3720 U.S. Route 52, Coward, SC 29530.
Town of Olanta | Town Hall, 365 North Magnolia Avenue, Olanta, SC 29114.
Town of Pamplico | Town Hall, 180 East Main Street, Pamplico, SC 29583.
Town of Quinby | Town Hall, 80 Dogwood Lane, Quinby, SC 29506.
Town of Scranton | Town Hall, 1818 U.S. Route 52, Scranton, SC 29591.
Town of Timmonsville | Town Hall, 115 West Main Street, Timmonsville, SC 29161.
Unincorporated Areas of Florence County | Florence County Planning Department, 518 South Irby Street, Florence, SC 29501.
City of Chesapeake, Virginia (Independent City)
Docket No.: FEMA-B-1344
City of Chesapeake | Planning Department, 306 Cedar Road, 2nd Floor, Chesapeake, VA 23322.
City of Norfolk, Virginia (Independent City)
Docket No.: FEMA-B-1293
City of Norfolk | Zoning Enforcement Office, 508 City Hall Building, 810 Union Street, Norfolk, VA 23510.
City of Poquoson, Virginia (Independent City)
Docket No.: FEMA-B-1332
City of Poquoson | Building Official's Office, 500 City Hall Avenue, Poquoson, VA 23662.

[FR Doc. 2014-25984 Filed 10-31-14; 8:45 am]

BILLING CODE 9110-12-P